DEPARTMENT OF HOMELAND SECURITY

Federal Emergency Management Agency

Agency Information Collection Activities: Submission for OMB Review; Comment Request

AGENCY: Federal Emergency Management Agency, Emergency Preparedness and Response Directorate, Department of Homeland Security.

ACTION: Notice and request for comments.

SUMMARY: The Federal Emergency Management Agency (FEMA) is submitting a request for review and approval of a collection of information under the emergency processing procedures in Office of Management and Budget (OMB) regulation 5 CFR 1320.13. FEMA is requesting that this information collection be approved by July 8, 2005. FEMA plans to follow this emergency request with a request for a 3 year approval. The request will be processed under OMB's normal clearance procedures in accordance with the provisions of OMB regulation 5 CFR 1320.10. To help us with the timely processing of this emergency submission to OMB, FEMA invites the general public to comment on the proposed collection of information.

SUPPLEMENTARY INFORMATION: The 9/11 Heroes Stamp Act of 2001, Public Law 107-67, sec. 652, 115 Stat. 514 (Nov. 12, 2001) (Heroes Stamp Act), directed the United States Postal Service (USPS) to issue a semipostal stamp and distribute the proceeds through the Federal Emergency Management Agency (FEMA) to the families of emergency relief personnel killed or permanently disabled while serving in the line of duty in connection with the terrorist attacks against the United States on September 11, 2001.

A semipostal stamp is a type of postage that is sold for a value greater than that of a regular first class stamp. The proceeds from the price differential between the sale price of the stamp and the cost of the postage fund the distribution provided for in the Heroes Stamp Act, after appropriate deduction for reasonable costs of producing and distributing the Heroes semipostal stamps by the USPS. The Heroes Stamp Act does not grant any administrative costs to FEMA. The USPS issued the Heroes semipostal stamp in June 2002, and discontinued selling the Heroes semipostal stamp on December 31, 2004.

FEMA is submitting a request for review and approval of a collection of information under the emergency processing procedures in Office of Management and Budget (OMB) regulation 5 CFR 1320.13. FEMA is requesting that this information collection be approved by July 8, 2005. FEMA plans to follow this emergency request with a request for a 3 year approval. The request will be processed under OMB's normal clearance procedures in accordance with the provisions of OMB regulation 5 CFR 1320.10. To help us with the timely processing of the emergency and normal clearance submissions to OMB, FEMA invites the general public to comment on the proposed collection of information.

This information collection allows respondents to apply for benefits using FEMA form 75-14. Primary respondents to this collection will be emergency relief personnel who were permanently physically disabled and the personal representatives of the emergency relief personnel killed while serving in the line of duty in connection with the terrorist attacks against the United States on September 11, 2001. Part IV of the Application Form (FEMA Form 75-14) will be completed by the applicant's Employer/Volunteer Organization as certification of applicant's official duties on 9/11. To facilitate disbursement of funds to eligible claimants, this collection will use Standard Form 1199A (Direct Deposit Sign-up Form) OMB No. 1510-0007, which will be completed by both the eligible claimant and his/her financial institution.

Collection of Information:

Title: 9/11 Heroes Stamp Act of 2001 Eligibility and Application for Benefits.

Type of Information Collection: New Collection.

OMB Number: 1660-0091.

Abstract: This collection implements FEMA's interim rule 44 CFR part 153 which establishes the process to distribute the proceeds of the semipostal stamp to the families of emergency relief personnel killed or permanently disabled while serving in the line of duty in connection with the terrorist attacks against the United States on September 11, 2001.

Affected Public: Individuals or Households; Business or Other For-Profit Organizations; State, Tribal, or Local Governments.

Number of Respondents: 5000.

Estimated Time per Respondent: Overall completion time for compiling and reporting information in the application form (FEMA Form 75-14) and authorizing direct deposit (SF 1199A) is estimated at 2 hours 10 minutes per respondent for claimants and 40 minutes for employers/financial institutions. Claimants appealing the process, if any, will spend an additional 30 minutes of their time preparing an “intent to appeal notice/statement” for an overall estimate of 2 hours and 40 minutes.

Estimated Total Annual Burden Hours: 3,340 hours.

Estimated Cost: Annualized cost—all respondents combined totals $58,620.00, with an average cost per respondent of $38.00 for claimants and $6.00 for employers and financial institutions.

Frequency of Response: One-time.

Comments: Written comments are solicited to (a) evaluate whether the proposed data collection is necessary for the proper performance of the agency, including whether the information shall have practical utility; (b) evaluate the accuracy of the agency's estimate of the burden of the proposed information collection, including the validity of the methodology and assumptions used; (c) enhance the quality, utility, and clarity of the information to be collected; and (d) minimize the burden of the collection of information on those who are to respond, including through the use of appropriate automated, electronic, mechanical, or other technology, e.g., permitting electronic submission of responses. Submit comments to OMB within 30 days of the date of this notice. To ensure that FEMA is fully aware of any comments or concerns that you share with OMB, please provide us with a copy of your comments. FEMA will continue to accept comments from interested persons through September 26, 2005. Submit comments to the FEMA address listed below:

OMB Address: Interested persons are invited to submit written comments on the proposed information collection to the Office of Information and Regulatory Affairs, Attn: OMB Desk Officer for the Federal Emergency Management Agency, Emergency Preparedness and Response Directorate, Department of Homeland Security, (Proposed New Information Collection—9/11 Heroes Stamp Act of 2001 Eligibility and Application for Benefits), facsimile number (202) 395-6974.

FOR FURTHER INFORMATION CONTACT: Requests for additional information or copies of the information collection should be made to the Chief, Records Management, Section, Information Resources Management Branch, Information Technology Services Division, Federal Emergency Management Agency, Emergency Preparedness and Response Directorate, Department of Homeland Security, 500 C Street, SW., Room 316, Washington, DC 20472. Facsimile number (202) 646-3347, or at e-mail address FEMA-Information-Collections@dhs.gov.

Dated: July 18, 2005.
George S. Trotter,
Acting Branch Chief, Information Resources Management Branch, Information Technology Services Division.

[FR Doc. 05-14519 Filed 7-25-05; 8:45 am]

BILLING CODE 9110-17-P